NUCLEAR REGULATORY COMMISSION

10 CFR Part 73

[NRC-2008-0619]

RIN 3150-AI25

Requirements for Fingerprint-Based Criminal History Records Checks for Individuals Seeking Unescorted Access to Research or Test Reactors

AGENCY: Nuclear Regulatory Commission.

ACTION: Proposed rule; reopening of comment period.

SUMMARY: The U.S. Nuclear Regulatory Commission (NRC) is reopening the public comment period for the proposed rule that was published on July 10, 2010. The proposed rule would amend the NRC's regulations by requiring research and test reactor licensees to obtain a fingerprint-based criminal history records check before granting any individual unescorted access to their facilities. The comment period for this proposed rule, which closed on October 4, 2010, is reopened and will remain open until January 31, 2011.

DATES: The comment period for the proposed rule published July 10, 2010 (75 FR 42000), has been reopened and now closes on January 31, 2011. Comments received after this date will be considered if it is practical to do so, but the NRC is able to assure consideration only for comments received on or before this date.

ADDRESSES: Please include Docket ID NRC-2008-0619 in the subject line of your comments. For instructions on submitting comments see the SUPPLEMENTARY INFORMATION section of this document. You may submit comments by any one of the following methods.

Federal rulemaking Web site: Go to http://www.regulations.gov and search for documents filed under Docket ID NRC-2008-0619. Address questions about NRC dockets to Carol Gallagher, telephone: 301-492-3668; e-mail: Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1966.

Hand deliver comments to: 11555 Rockville Pike, Rockville, Maryland 20852 between 7:30 a.m. and 4:15 p.m. during Federal workdays (telephone: 301-415-1966).

Fax comments to: Secretary, U.S. Nuclear Regulatory Commission at 301-415-1101.

FOR FURTHER INFORMATION CONTACT: A. Jason Lising, Office of Nuclear Reactor Regulation, U.S. Nuclear Regulatory Commission, Washington, DC 20555-0001; telephone: 301-415-3841; e-mail Jason.Lising@nrc.gov; or Timothy A. Reed, Office of Nuclear Reactor Regulation, U.S. Nuclear Regulatory Commission, Washington, DC 20555-0001; telephone: 301-415-1462; e-mail Timothy.Reed@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document using the following methods:

NRC's Public Document Room (PDR): The public may examine and have copied for a fee publicly available documents at the NRC's PDR, Room O1-F21, One White Flint North, 11555 Rockville Pike, Rockville, Maryland 20852.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to PDR.Resource@nrc.gov.

Federal rulemaking Web site: Public comments and supporting materials related to this proposed rule can be found at http://www.regulations.gov by searching on Docket ID NRC-2008-0619.

Extension Request

On October 3, 2010, Stephen Miller representing The National Organization of Test, Research, and Training Reactors, requested an extension of the public comment period until January 31, 2011 (ADAMS Accession No. ML102790180). The Commission has granted your request. Therefore, the NRC is reopening the public comment period until January 31, 2011.

Dated at Rockville, Maryland, this 14th day of December 2010.
For the Nuclear Regulatory Commission.
Annette L. Vietti-Cook,
Secretary of the Commission.

[FR Doc. 2010-31852 Filed 12-17-10; 8:45 am]

BILLING CODE 7590-01-P